DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On May 16, 2019, OFAC determined that the property and interests in property subject to U.S. jurisdiction of the following persons are blocked under the relevant sanctions authorities listed below.

Individuals

1. GEREMEYEV, Ruslan, Russia; DOB 10 May 1978; citizen Russia; Gender Male (individual) [MAGNIT].

Designated pursuant to section 404(a)(3) and 406 of the Russia and Moldova Jackson-Vanik Repeal and Sergei Magnitsky Rule of Law Accountability Act of 2012 (The Magnitsky Act), for acting as an agent of or on behalf of a person in a matter relating to extrajudicial killings, torture, or other gross violations of internationally recognized human rights committed against individuals seeking to obtain, exercise, defend, or promote internationally recognized human rights and freedoms, such as the freedoms of religion, expression, association, and assembly, and the rights to a fair trial and democratic elections in Russia.

2. KARLOV, Gennady Vyacheslavovich (Cyrillic: КАРЛОВ, Геннадий Вячеславович); DOB 27 Feb 1960; alt. DOB 1966; Gender Male (individual) [MAGNIT].

Designated pursuant to section 404(a)(1) and 406 of the Magnitsky Act, for participating in efforts to conceal the legal liability for the detention, abuse, or death of Sergei Magnitsky.

3. KOSSIEV, Sergey Leonidovich (Cyrillic: КОССИЕВ, Сергей Леонидович) (a.k.a. KOSSIYEV, Sergei); DOB 19 May 1975; Gender Male; Head of the Institution, Captain of Internal Service, Penal Colony IK-7 (individual) [MAGNIT].

Designated pursuant to section 404(a)(2)(B) and 406 of the Magnitsky Act, for being responsible for extrajudicial killings, torture, or other gross violations of internationally recognized human rights committed against individuals seeking to obtain, exercise, defend, or promote internationally recognized human rights and freedoms, such as the freedoms of religion, expression, association, and assembly, and the rights to a fair trial and democratic elections in Russia.

4. TRIKULYA, Elena Anatolievna, Russia; DOB 18 Mar 1975; Gender Female (individual) [MAGNIT].

Designated pursuant to section 404(a)(1) and 406 of the Magnitsky Act, for participating in efforts to conceal the legal liability for the detention, abuse, or death of Sergei Magnitsky.

5. VISMURADOV, Abuzayed, Chechen Republic, Russia; DOB 21 Dec 1975; Gender Male; Commander of the Special Quick-Reaction Detachment (SOBR) Team “Terek” (individual) [MAGNIT].

Designated pursuant to section 404(a)(2)(B) and 406 of the Magnitsky Act, for being responsible for extrajudicial killings, torture, or other gross violations of internationally recognized human rights committed against individuals seeking to obtain, exercise, defend, or promote internationally recognized human rights and freedoms, such as the freedoms of religion, expression, association, and assembly, and the rights to a fair trial and democratic elections in Russia.

Entities

1. TEREK SPECIAL RAPID RESPONSE TEAM (a.k.a. SPECIAL DIVISION OF FIRST RESPONDERS, CHECHNYA (SOBR)), Chechen Republic, Russia [MAGNIT].

Designated pursuant to section 404(a)(2)(B) and 406 of the Magnitsky Act, for being responsible for extrajudicial killings, torture, or other gross violations of internationally recognized human rights committed against individuals seeking to obtain, exercise, defend, or promote internationally recognized human rights and freedoms, such as the freedoms of religion, expression, association, and assembly, and the rights to a fair trial and democratic elections in Russia.

Dated: May 16, 2019.
Andrea M. Gacki,
Director, Office of Foreign Assets Control.

[FR Doc. 2019-12213 Filed 6-10-19; 8:45 am]

BILLING CODE 4810-AL-P